DEPARTMENT OF TRANSPORTATION

Federal Aviation Administration

14 CFR Part 71

[Docket No. FAA-2021-0426; Airspace Docket No. 21-AWP-14]

RIN 2120-AA66

Modification and Removal of Class E Airspace; South Lake Tahoe, CA

AGENCY: Federal Aviation Administration (FAA), DOT.

ACTION: Final rule.

SUMMARY: This action modifies the Class E airspace, designated as a surface area, at Lake Tahoe Airport, South Lake Tahoe, CA. This action removes the Class E airspace designated as an extension to a Class D or Class E surface area, and it modifies the Class E airspace extending upward from 700 feet above the surface. This action also implements two administrative updates to the Class E2's text header.

DATES: Effective 0901 UTC, December 2, 2021. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order JO 7400.11F at NARA, email fr.inspection@nara.gov or go to https://www.archives.gov/federal-register/cfr/ibr-locations.html.

FOR FURTHER INFORMATION CONTACT: Matthew Van Der Wal, Federal Aviation Administration, Western Service Center, Operations Support Group, 2200 S 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies and removes Class E airspace at Lake Tahoe Airport, South Lake Tahoe, CA, to ensure the safety and management of instrument flight rules (IFR) operations at the airport.

History

The FAA published a notice of proposed rulemaking in the Federal Register (86 FR 31998; June 16, 2021) for Docket No. FAA-2021-0426 to modify the Class E airspace at Lake Tahoe Airport, South Lake Tahoe, CA. Interested parties were invited to participate in this rulemaking effort by submitting written comments on the proposal to the FAA. One comment was received.

The comment discussed changes to Class D airspace at Lake Tahoe Airport. The comment is not germane to this action, because Lake Tahoe Airport does not have a Class D airspace area.

Class E2, E4, and Class E5 airspace designations are published in paragraphs 6002, 6004, and 6005, respectively, of FAA Order JO 7400.11F, dated August 10, 2021, and effective September 15, 2021, which is incorporated by reference in 14 CFR 71.1. The Class E airspace designation listed in this document will be published subsequently in the Order.

Availability and Summary of Documents for Incorporation by Reference

This document amends FAA Order JO 7400.11F, Airspace Designations and Reporting Points, dated August 10, 2021, and effective September 15, 2021, FAA Order JO 7400.11F is publicly available as listed in the ADDRESSES section of this document. FAA Order JO 7400.11F lists Class A, B, C, D, and E airspace areas, air traffic service routes, and reporting points.

The Rule

This amendment to 14 CFR part 71 modifies the Class E airspace, designated as a surface area, at Lake Tahoe Airport, South Lake Tahoe, CA. To properly contain IFR aircraft in the terminal environment, the radius of this airspace area should be increased from 4.3 miles to 5 miles.

This action also removes the Class E airspace designated as an extension to a Class D or Class E surface area. This airspace is no longer needed to contain IFR aircraft descending below 1,000 feet above the surface.

This action also modifies the Class E airspace extending upward from 700 feet above the surface. This airspace is designed to contain IFR departure to 1,200 feet above the surface and IFR arrivals descending below 1,500 feet above the surface. To properly contain aircraft conducting the LDA RWY 18 approach, the extension north of the airport is increased from 9.8 miles to 17.5 miles.

This action also implements two administrative updates to the Class E2's text header. On the second line of the text header, the airport name should be updated to “Lake Tahoe Airport”, to match the FAA database. On the third line of the text header, the airport's geographic coordinates should be updated to “lat. 38°53′38″ N, long. 119°59′44″ W”, to match the FAA database.

FAA Order JO 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6002 Class E Airspace Areas Designated as Surface Areas.

* * * * *

AWP CA E2 South Lake Tahoe, CA [Amended]

Lake Tahoe Airport, CA

(Lat. 38°53′38″ N, long. 119°59′43″ W)

That airspace extending upward from the surface within a 5-mile radius of the airport.

Paragraph 6004 Class E Airspace Areas Designated as an Extension to a Class D or Class E Surface Area.

* * * * *

AWP CA E4 South Lake Tahoe, CA [Removed]

South Lake Tahoe Airport, CA

(Lat. 38°53′38″ N, long. 119°59′43″ W)

Paragraph 6005 Class E Airspace Areas Extending Upward From 700 Feet or More Above the Surface of the Earth.

* * * * *

AWP CA E5 South Lake Tahoe, CA [Amended]

Lake Tahoe Airport, CA

(Lat. 38°53′38″ N, long. 119°59′43″ W)

That airspace extending upward from 700 feet above the surface within a 6-mile radius of Lake Tahoe Airport and within 1.9 miles each side of the 008° bearing from the airport extending from the 6-mile radius to 17.5 miles north of the airport.

Issued in Des Moines, Washington, on September 15, 2021.
B.G. Chew,
Acting Group Manager, Operations Support Group, Western Service Center.

[FR Doc. 2021-20319 Filed 9-21-21; 8:45 am]

BILLING CODE 4910-13-P